DEPARTMENT OF COMMERCE

Foreign-Trade Zones Board

[S-152-2017]

Foreign-Trade Zone 214—Lenoir County, North Carolina; Application for Expansion of Subzone 214A; Consolidated Diesel Company; Enfield, North Carolina

An application has been submitted to the Foreign-Trade Zones Board (the Board) by the North Carolina Department of Transportation, grantee of FTZ 214, requesting an expansion of Subzone 214A on behalf of Consolidated Diesel Company (CDC). The application was submitted pursuant to the provisions of the Foreign-Trade Zones Act, as amended (19 U.S.C. 81a-81u), and the regulations of the Board (15 CFR part 400). It was formally docketed on September 26, 2017.

Subzone 214A was approved on May 8, 2000 (Board Order 1093, 65 FR 33294, May 23, 2000) and consists of the following sites: Site 1 (239 acres) CDC manufacturing plant, 9377 U.S. Highway 301 North, Whitakers; Site 2 (10 acres) CDC training center and warehouse, located directly across U.S. Highway 301 from Site 1, Whitakers; and, Site 3 (26 acres) E.B. Grain Company warehouse, 7301 U.S. Highway 301 North, Rocky Mount, North Carolina. The applicant is requesting authority to expand the subzone to include an additional site as follows: Proposed Site 4 (17.98 acres)—18388 U.S. Highway 301, Enfield, North Carolina. The applicant is also requesting to remove existing Site 3 of the subzone. No additional authorization for production activity has been requested at this time. The existing subzone and the proposed site would be subject to the existing activation limit of FTZ 214.

In accordance with the Board's regulations, Kathleen Boyce of the FTZ Staff is designated examiner to review the application and make recommendations to the Executive Secretary.

Public comment is invited from interested parties. Submissions shall be addressed to the Board's Executive Secretary at the address below. The closing period for their receipt is November 13, 2017. Rebuttal comments in response to material submitted during the foregoing period may be submitted during the subsequent 15-day period to November 27, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov or (202) 482-1346.

Dated: September 27, 2017.
Andrew McGilvray,
Executive Secretary.

[FR Doc. 2017-21216 Filed 10-2-17; 8:45 am]

BILLING CODE 3510-DS-P